DEPARTMENT OF COMMERCE

International Trade Administration

[C-570-971]

Multilayered Wood Flooring From the People's Republic of China: Final Results and Partial Rescission of Countervailing Duty Administrative Review; 2012

AGENCY: Enforcement and Compliance, International Trade Administration, Department of Commerce.

SUMMARY: The Department of Commerce (Department) has conducted an administrative review of the countervailing duty (CVD) order on multilayered wood flooring (wood flooring) from the People's Republic of China (PRC).¹ On January 7, 2015, we published the Preliminary Results for this administrative review.² The period of review (POR) is January 1, 2012, through December 31, 2012. We find that Fine Furniture (Shanghai) Limited (Fine Furniture) and The Lizhong Wood Industry Limited Company of Shanghai (Lizhong) (also known as Shanghai Lizhong Wood Products Co., Ltd.), the individually examined companies in this administrative review, received countervailable subsidies during the POR. The Department is also rescinding the review of Changzhou Hawd Flooring Co., Ltd. (Changzhou) because it had no shipments of subject merchandise to the United States during the POR.

¹ See Multilayered Wood Flooring from the People's Republic of China: Countervailing Duty Order, 76 FR 76693 (December 8, 2011) (Order); see also Multilayered Wood Flooring from the People's Republic of China: Amended Antidumping and Countervailing Duty Orders, 77 FR 5484 (February 3, 2012) (Amended Order).

² See Multilayered Wood Flooring From the People's Republic of China: Preliminary Results of Countervailing Duty Administrative Review and Intent To Rescind the Review in Part; 2012, 80 FR 859 (January 7, 2015) (Preliminary Results).

DATES: Effective date July 14, 2015.

FOR FURTHER INFORMATION CONTACT: Mary Kolberg or Dana Mermelstein, AD/CVD Operations, Office I, Enforcement and Compliance, U.S. Department of Commerce, 14th Street and Constitution Avenue NW., Washington, DC 20230; telephone: (202) 482-1785 or (202) 482-1391, respectively.

SUPPLEMENTARY INFORMATION:

Background

In the Preliminary Results, we deferred our analysis of certain programs to a post-preliminary analysis. On March 11, 2015, we issued a post-preliminary analysis memorandum.³ We invited interested parties to file case and rebuttal briefs following the release of the post-preliminary analysis memorandum. Only the Government of the PRC (the GOC) filed a case brief.⁴ No party filed a rebuttal brief. We also received letters from Fine Furniture ⁵, Suzhou Dongda Wood Co., Ltd.⁶, and Yixing Lion-King Timber Industry Co., Ltd.⁷

³ See Memorandum to Christian Marsh, Deputy Assistant Secretary for Antidumping and Countervailing Duty Operations, “Post-Preliminary Analysis of Countervailing Duty Administrative Review: Multilayered Wood Flooring from the People's Republic of China” (March 11, 2015).

⁴ See Letter from the GOC to the Department, “Case Brief of the Government of the People's Republic of China: Multilayered Wood Flooring from The People's Republic of China” (March 19, 2015).

⁵ See Letter from Fine Furniture to the Department, “Administrative Review of the Countervailing Duty Order on Multilayered Wood Flooring from the People's Republic of China: Letter in Lieu of Case Brief” (March 19, 2015).

⁶ See Letter from Suzhou Dongda Wood Co., Ltd. and Yixing Lion-King Timber Industry Co., Ltd. to the Department, “Multilayered Wood Flooring from the People's Republic of China: Correction of Typographical Errors” (January 8, 2015).

⁷ Id.

On May 5, 2015, the Department extended the time period for issuing the final results of this administrative review to July 6, 2015, as permitted by section 751(a)(3)(A) of the Tariff Act of 1930 (the Act) and 19 CFR 351.213(h)(2).⁸ On the same date, we issued a supplemental questionnaire to the GOC,⁹ and we received the GOC's response on May 22, 2015.¹⁰ On May 29, 2015, the Department provided parties with an opportunity to comment on the GOC's supplemental response.¹¹ No comments were received.

⁸ See Memorandum to Christian Marsh, Deputy Assistant Secretary, Deputy Assistant Secretary for Antidumping and Countervailing Duty Operations, “Multilayered Wood Flooring from the People's Republic of China: Extension of Deadline for Final Results of Countervailing Duty Administrative Review; 2012” (May 5, 2015).

⁹ See Letter to the GOC, “Multilayered Wood Flooring from the People's Republic of China: 2012 Countervailing Duty Administrative Review” (May 5, 2015).

¹⁰ See Letter from the GOC to the Department, “Response of the Government of the People's Republic of China to the Department's Fourth Supplemental Questionnaire” (May 22, 2015).

¹¹ See Memorandum to the File from Josh Morris, International Trade Compliance Analyst, Office I, “Multilayered Wood Flooring from the People's Republic of China: Countervailing Duty Administrative Review; 2012-Additional Comment Period” (May 29, 2015).

Scope of the Order

Multilayered wood flooring is composed of an assembly of two or more layers or plies of wood veneer(s) ¹² in combination with a core. Imports of the subject merchandise are provided for under the following subheadings of the Harmonized Tariff Schedule of the United States (HTSUS): 4412.31.0520; 4412.31.0540; 4412.31.0560; 4412.31.2510; 4412.31.2520; 4412.31.4040; 4412.31.4050; 4412.31.4060; 4412.31.4070; 4412.31.5125; 4412.31.5135; 4412.31.5155; 4412.31.5165; 4412.31.6000; 4412.31.9100; 4412.32.0520; 4412.32.0540; 4412.32.0560; 4412.32.2510; 4412.32.2520; 4412.32.3125; 4412.32.3135; 4412.32.3155; 4412.32.3165; 4412.32.3175; 4412.32.3185; 4412.32.5600; 4412.39.1000; 4412.39.3000; 4412.39.4011; 4412.39.4012; 4412.39.4019; 4412.39.4031; 4412.39.4032; 4412.39.4039; 4412.39.4051; 4412.39.4052; 4412.39.4059; 4412.39.4061; 4412.39.4062; 4412.39.4069; 4412.39.5010; 4412.39.5030; 4412.39.5050; 4412.94.1030; 4412.94.1050; 4412.94.3105; 4412.94.3111; 4412.94.3121; 4412.94.3131; 4412.94.3141; 4412.94.3160; 4412.94.3171; 4412.94.4100; 4412.94.5100; 4412.94.6000; 4412.94.7000; 4412.94.8000; 4412.94.9000; 4412.94.9500; 4412.99.0600; 4412.99.1020; 4412.99.1030; 4412.99.1040; 4412.99.3110; 4412.99.3120; 4412.99.3130; 4412.99.3140; 4412.99.3150; 4412.99.3160; 4412.99.3170; 4412.99.4100; 4412.99.5100; 4412.99.5710; 4412.99.6000; 4412.99.7000; 4412.99.8000; 4412.99.9000; 4412.99.9500; 4418.71.2000; 4418.71.9000; 4418.72.2000; and 4418.72.9500.

¹² A “veneer” is a thin slice of wood, rotary cut, sliced or sawed from a log, bolt or flitch. Veneer is referred to as a ply when assembled.

While HTSUS subheadings are provided for convenience and customs purposes, the written product description remains dispositive. A full description of the scope of the order is contained in the Issues and Decision Memorandum.¹³

¹³ See memorandum from Christian Marsh, Deputy Assistant Secretary for Antidumping and Countervailing Duty Operations, to Paul Piquado, Assistant Secretary for Enforcement and Compliance, “Issues and Decision Memorandum for Final Results of Countervailing Duty Administrative Review: Multilayered Wood Flooring from the People's Republic of China” (Issues and Decision Memorandum), dated concurrently with this notice.

The Issues and Decision Memorandum is a public document and is on file electronically via Enforcement and Compliance's Antidumping and Countervailing Duty Centralized Electronic Service System (ACCESS). ACCESS is available to registered users at https://access.trade.gov and in the Central Records Unit, Room B8024 of the main Department of Commerce building. In addition, a complete version of the Issues and Decision Memorandum can be accessed directly on the internet at http://enforcement.trade.gov/frn/index.html. The signed Issues and Decision Memorandum and the electronic version of the Issues and Decision Memorandum are identical in content.

Partial Rescission of Administrative Review

On April 4, 2014, we received a timely filed no-shipment certification from Changzhou. Because there is no evidence on the record to indicate that this company had sales of subject merchandise during the POR, and no party objected to our intent to rescind as stated in the Preliminary Results, pursuant to 19 CFR 351.213(d)(3), we are rescinding the review with respect to Changzhou.

Methodology

We have conducted this review in accordance with section 751(a)(1)(A) of the Act. A full description of the methodology underlying our conclusions is presented in the Issues and Decision Memorandum.

Use of Facts Otherwise Available, Including Adverse Inferences

For purposes of the Support for Developing a National Technology Standard program, the Department has concluded that, despite two requests, the GOC did not provide the Department with necessary information with respect to the length of time that the subsidy program has been in operation. Accordingly, the Department has determined that the GOC did not act to the best of its ability in responding to the Department's request for information and that the application of facts available with an adverse inference is warranted.¹⁴ Based upon the available facts and the GOC's failure to cooperate to the best of its ability in providing this information as requested, the Department has concluded that the Support for Developing a National Technology Standard program was in existence prior to the POR. For further information, see the section “Use of Facts Otherwise Available and Adverse Inferences,” in the Issues and Decision Memorandum.

¹⁴ See sections 776(a) and (b) of the Act.

Final Results of the Review

In accordance with 19 CFR 351.221(b)(5), we calculated individual subsidy rates for the mandatory respondents, Fine Furniture and Lizhong.

For the non-selected respondents, we have followed the Department's practice, which is to base the subsidy rates on an average of the subsidy rates calculated for those companies selected for individual review, excluding de minimis rates or rates based entirely on adverse facts available.¹⁵ We have assigned to the non-selected respondents the simple average of the rates calculated for Fine Furniture and Lizhong. We have used a simple average rather than a weighted average due to inconsistent units of measure in the publicly ranged quantity and value data.

¹⁵ See, e.g., Certain Pasta From Italy: Preliminary Results of the 13th (2008) Countervailing Duty Administrative Review, 75 FR 18806, 18811 (April 13, 2010), unchanged in Certain Pasta from Italy: Final Results of the 13th (2008) Countervailing Duty Administrative Review, 75 FR 37386 (June 29, 2010).

We find the net countervailable subsidy rate for the producers and/or exporters under review to be as follows: ¹⁶

¹⁶ See Memorandum to The File from Mary Kolberg, International Trade Analyst, “Multilayered Wood Flooring from the People's Republic of China; 2012” dated concurrently with this notice.

Producer/exporter | Net subsidy rate
Shanghai Lizhong Wood Products Co., Ltd. (also known as The Lizhong Wood Industry Limited Company of Shanghai) | 0.99
Fine Furniture (Shanghai) Limited | 0.99
A&W (Shanghai) Woods Co., Ltd | 0.99
Suzhou Dongda Wood Co., Ltd | 0.99
Armstrong Wood Products (Kunshan) Co., Ltd | 0.99
Baishan Huafeng Wood Product Co., Ltd | 0.99
Baiying Furniture Manufacturer Co., Ltd | 0.99
Baroque Timber Industries (Zhongshan) Co., Ltd | 0.99
Cheng Hang Wood Co., Ltd ¹⁷ | 0.99
Changbai Mountain Development and Protection Zone Hongtu Wood Industrial Co., Ltd | 0.99
Chinafloors Timber (China) Co., Ltd | 0.99
Dalian Dajen Wood Co., Ltd | 0.99
Dalian Huade Wood Product Co., Ltd | 0.99
Dalian Huilong Wooden Products Co., Ltd | 0.99
Dalian Jiuyuan Wood Industry Co., Ltd | 0.99
Dalian Kemian Wood Industry Co., Ltd | 0.99
Dalian Penghong Floor Products Co., Ltd | 0.99
Dalian T-Boom Wood Products Co., Ltd | 0.99
Dongtai Fuan Universal Dynamics, LLC | 0.99
Dun Hua City Jisen Wood Industry Co., Ltd | 0.99
Dunhua City Dexin Wood Industry Co., Ltd | 0.99
Dunhua City Hongyuan Wood Industry Co., Ltd | 0.99
Dunhua City Wanrong Wood Industry Co., Ltd | 0.99
Dunhua Sentai Wood Co., Ltd | 0.99
Dunhua Shengda Wood Industry Co., Ltd | 0.99
Fu Lik Timber (HK) Co., Ltd | 0.99
Fusong Jinlong Wooden Group Co., Ltd | 0.99
Fusong Qianqiu Wooden Product Co., Ltd | 0.99
GTP International Ltd | 0.99
Guangdong Yihua Timber Industry Co., Ltd | 0.99
Guangzhou Homebon Timber Manufacturing Co., Ltd | 0.99
Guangzhou Panyu Kangda Board Co., Ltd | 0.99
Guangzhou Panyu Southern Star Co., Ltd | 0.99
HaiLin XinCheng Wooden Products, Ltd | 0.99
Hangzhou Dazhuang Floor Co., Ltd (dba Dasso Industrial Group Co., Ltd.) | 0.99
Hangzhou Hanje Tec Co., Ltd | 0.99
Hangzhou Zhengtian Industrial Co., Ltd | 0.99
Hunchun Forest Wolf Wooden Industry Co., Ltd | 0.99
Hunchun Xingjia Wooden Flooring Inc | 0.99
Huzhou Chenghang Wood Co., Ltd | 0.99
Huzhou Fulinmen Imp. & Exp. Co., Ltd | 0.99
Huzhou Fuma Wood Co., Ltd | 0.99
Huzhou Jesonwood Co., Ltd | 0.99
Huzhou Ruifeng Imp. & Exp. Co., Ltd | 0.99
Huzhou Sunergy World Trade Co., Ltd | 0.99
Jiafeng Wood (Suzhou) Co., Ltd | 0.99
Jiangsu Senmao Bamboo and Wood Industry Co., Ltd | 0.99
Jiangsu Simba Flooring Co., Ltd | 0.99
Jiashan Hui Jia Le Decoration Material Co., Ltd | 0.99
Jilin Forest Industry Jinqiao Flooring Group Co., Ltd | 0.99
Jilin Xinyuan Wooden Industry Co., Ltd | 0.99
Karly Wood Product Limited | 0.99
Kemian Wood Industry (Kunshan) Co., Ltd | 0.99
Linyi Anying Wood Co., Ltd | 0.99
Linyi Bonn Flooring Manufacturing Co., Ltd | 0.99
Mudanjiang Bosen Wood Industry Co., Ltd | 0.99
Nakahiro Jyou Sei Furniture (Dalian) Co., Ltd | 0.99
Nanjing Minglin Wooden Industry Co., Ltd | 0.99
Power Dekor Group Co., Ltd | 0.99
Riverside Plywood Corporation | 0.99
Samling Elegant Living Trading (Labuan) Limited | 0.99
Samling Riverside Co., Ltd | 0.99
Shanghai Anxin (Weiguang) Timber Co., Ltd | 0.99
Shanghai Eswell Timber Co., Ltd | 0.99
Shanghai Lairunde Wood Co., Ltd | 0.99
Shanghai New Sihe Wood Co., Ltd | 0.99
Shanghai Shenlin Corporation | 0.99
Shenyang Haobainian Wooden Co., Ltd | 0.99
Shenzhenshi Huanwei Woods Co., Ltd | 0.99
Vicwood Industry (Suzhou) Co. Ltd | 0.99
Xiamen Yung De Ornament Co., Ltd | 0.99
Xuzhou Shenghe Wood Co., Ltd | 0.99
Yekalon Industry, Inc | 0.99
Yingyi-Nature (Kunshan) Wood Industry Co., Ltd | 0.99
Yixing Lion-King Timber Industry Co. Ltd | 0.99
Zhejiang Anji Xinfeng Bamboo and Wood Co., Ltd | 0.99
Zhejiang Biyork Wood Co., Ltd | 0.99
Zhejiang Dadongwu Green Home Wood Co., Ltd | 0.99
Zhejiang Desheng Wood Industry Co., Ltd | 0.99
Zhejiang Fudeli Timber Industry Co., Ltd | 0.99
Zhejiang Fuerjia Wooden Co., Ltd | 0.99
Zhejiang Fuma Warm Technology Co., Ltd | 0.99
Zhejiang Haoyun Wooden Co., Ltd | 0.99
Zhejiang Longsen Lumbering Co., Ltd | 0.99
Zhejiang Shiyou Timber Co., Ltd | 0.99
Zhejiang Tianzhen Bamboo & Wood Development Co., Ltd | 0.99

Assessment Rates

Consistent with 19 CFR 351.212(b)(2), we intend to issue assessment instructions to the U.S. Customs and Border Protection (CBP) fifteen days after the date of publication of these final results. We will instruct CBP to assess countervailing duties on POR entries in the amounts shown above.

¹⁷ See Memorandum To The File from Mary Kolberg, International Trade Analyst, “Addition of Cheng Hang Wood Co., Ltd. to Final Results” (June 29, 2015).

Cash Deposit Requirements

In accordance with section 751(a)(1) of the Act, we intend to instruct CBP to collect cash deposits of estimated countervailing duties in the amounts shown above on shipments of subject merchandise entered, or withdrawn from warehouse, for consumption on or after the date of publication of the final results of this review. For all non-reviewed companies (except Zhejiang Layo Wood Industry Co., Ltd., its affiliate Jiaxing Brilliant Import & Export Co., Ltd., and Zhejiang Yuhua Timber Co., Ltd., which are excluded from the Order),¹⁸ we will instruct CBP to continue to collect cash deposits at the most recent company-specific or all-others rate applicable to the company. Accordingly, the cash deposit rates that will be applied to companies covered by the Amended Order, but not examined in this review, are those established in the most recently completed segment of the proceeding for each company. These cash deposit requirements, when imposed, shall remain in effect until further notice.

¹⁸ See Order, 76 FR at 76694.

Administrative Protective Order

This notice serves as a final reminder to parties subject to administrative protective order (APO) of their responsibility concerning the disposition of proprietary information disclosed under APO in accordance with 19 CFR 351.305(a)(3). Timely written notification of return or destruction of APO materials or conversion to judicial protective order is hereby requested. Failure to comply with the regulations and the terms of an APO is a sanctionable violation.

We are issuing and publishing these results in accordance with sections 751(a)(1) and 777(i)(1) of the Act and 19 CFR 351.213.

Dated: July 6, 2015.
Paul Piquado,
Assistant Secretary for Enforcement and Compliance.

Appendix—List of Topics Discussed in the Issues and Decision Memorandum

1. Summary

2. Background

3. Scope of the Order

4. Partial Rescission of Administrative Review

5. Use of Facts Otherwise Available and Adverse Inferences

6. Subsidy Valuation Information

7. Analysis of Programs

8. Analysis of Comments

Comment 1: Specificity of the Support for Developing a National Technology Standard Program

Comment 2: Names of Companies in U.S. Customs and Border Protection Instructions

9. Recommendation

[FR Doc. 2015-17079 Filed 7-13-15; 8:45 am]

BILLING CODE 3510-DS-P